DEPARTMENT OF HOMELAND SECURITY

Coast Guard

33 CFR Part 117

[Docket No. USCG-2018-0052]

Drawbridge Operation Regulation; Chambers Creek, Steilacoom, WA

AGENCY: Coast Guard, DHS.

ACTION: Notice of temporary deviation from regulations.

SUMMARY: The Coast Guard has issued a temporary deviation from the operating schedule that governs the Chambers Bay railroad lift bridge (Chambers Bay Bridge) across Chambers Bay, mile 0.01, near Steilacoom in Pierce County, WA. The deviation allows the Chambers Bay Bridge to operate without a duty bridge operator during the late evening and early morning hours over the relevant dates. During these hours the Chambers Bay Bridge will remain in the closed-to-navigation position.

DATES: This deviation is effective without actual notice from January 25, 2018 through 6 a.m. on May 19, 2018. For the purposes of enforcement, actual notice will be used from January 25, 2018 until 10 p.m. May 19, 2018.

ADDRESSES: The docket for this deviation, USCG-2018-0052 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Burlington Northern Santa Fe (BNSF) Railway Company owns and operates the vertical lift Chambers Bay Bridge. BNSF requested the Chambers Bay Bridge, across Chambers Bay, mile 0.01, near Steilacoom in Pierce County, WA, be authorized to operate without a bridge operator on duty between the hours of 10 p.m. and 6 a.m. The subject bridge operates in accordance with 33 CFR 117.5. Chambers Bay Bridge has a vertical clearance of 10 ft in the closed-to-navigation position, and 50 ft of vertical clearance in the open-to-navigation position (reference MHW elevation of 12.2 feet). Between the hours of 10 p.m. and 6 a.m., the Chambers Bay Bridge will be able to open on signal if such requests are received with at least 4 hours notice.

Waterway usage on Chambers Bay is recreational pleasure craft including cabin cruisers and sailing vessels. Vessels able to pass under the bridge in the closed-to-navigation position may do so at anytime. The bridge will be able to open for emergencies during this closure period, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: January 19, 2018.
Steven M. Fischer,
Bridge Administrator, Thirteenth Coast Guard District.

[FR Doc. 2018-01382 Filed 1-24-18; 8:45 am]

BILLING CODE 9110-04-P